DEPARTMENT OF STATE

[Public Notice: 9822]

Regional Meeting of the Binational Bridges and Border Crossings Group in Fort Worth, Texas

ACTION: Notice.

SUMMARY: Delegates from the United States and Mexican governments, the states of Texas and New Mexico, and the Mexican states of Chihuahua, Coahuila, Nuevo Leon, and Tamaulipas will participate in a regional meeting of the U.S.-Mexico Binational Bridges and Border Crossings Group on Wednesday, January 25, 2017 in Fort Worth, Texas. The purpose of this meeting is to discuss operational matters involving existing and proposed international bridges and border crossings and their related infrastructure and to exchange technical information as well as views on policy. This meeting will include a public session on Wednesday, January 25, 2017, from 8:45 a.m. until 10:45 a.m. This session will allow proponents of proposed bridges and border crossings and related projects to make presentations to the delegations and members of the public.

FOR FURTHER INFORMATION CONTACT: For further information on the meeting and to attend the public session, please contact Linda Neilan in the Office of Mexican Affairs' Border Affairs Unit via email at WHABorderAffairs@state.gov, by phone at 202-647-9894, or by mail at Office of Mexican Affairs—Room 3924, Department of State, 2201 C St. NW., Washington, DC 20520.

Vaida Vidugiris,
Office of Mexican Affairs, Department of State.

[FR Doc. 2016-31421 Filed 12-28-16; 8:45 am]

BILLING CODE 4710-29-P